DEPARTMENT OF HEALTH AND HUMAN SERVICES

National Institutes of Health

Submission for OMB Review; 30-Day Comment Request; NIH Office of Intramural Training & Education—Application, Registration, and Alumni

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Patricia Wagner, Program Analyst, Office of Intramural Training & Education (OITE), Office of Intramural Research (OIR), Office of the Director (OD), National Institutes of Health (NIH); 2 Center Drive: Building 2/2nd Floor; Bethesda, Maryland 20892 or call non-toll-free number 240-476-3619 or email your request, including your address to: wagnerpa@od.nih.gov.

SUPPLEMENTARY INFORMATION: This proposed information collection was previously published in the Federal Register on November 1, 2023, page 75007 (88 FR 75007) and allowed 60 days for public comment. One public comment was received. The purpose of this notice is to allow an additional 30 days for public comment. The Office of the Director, National Institutes of Health (NIH), may not conduct or sponsor, and the respondent is not required to respond to, an information collection that has been extended, revised, or implemented on or after October 1, 1995, unless it displays a currently valid Office of Management and Budget (OMB) control number.

In compliance with Section 3507(a)(1)(D) of the Paperwork Reduction Act of 1995, NIH has submitted to OMB a request for review and approval of the information collection listed below.

Proposed Collection: NIH Office of Intramural Training & Education—Application, Registration, and Alumni Systems, 0925-0299, exp., date, 31-May-2027, REVISION, Office of Intramural Training & Education (OITE), Office of Intramural Research (OIR), Office of the Director (OD), National Institutes of Health (NIH).

Need and Use of Information Collection: The OITE administers a variety of programs and initiatives to recruit pre-college through pre-doctoral educational level individuals into the National Institutes of Health Intramural Research Program (NIH-IRP) to facilitate their development into future biomedical scientists. The proposed information collection is necessary in order to determine the eligibility and quality of potential awardees for traineeships in these programs. The applications for admission consideration solicit information including: personal information, ability to meet eligibility criteria, contact information, university-assigned student identification number, training program selection, scientific discipline interests, educational history, standardized examination scores, reference information, resume components, employment history, employment interests, dissertation research details, letters of recommendation, financial aid history, sensitive data, and travel information, as well as feedback questions about interviews and application submission experiences. Sensitive data collected on the applicants: race, gender, ethnicity, relatives at NIH, and recruitment method, are made available only to OITE staff members or in aggregate form to select NIH offices and are not used by the admission committees for admission consideration. In addition, information to monitor trainee placement after departure from NIH is periodically collected.

OMB approval is requested for 3 years. There are no costs to respondents other than their time. The total estimated annualized burden hours are 12,824.

Estimated Annualized Burden Hours
Form name | Number of respondents | Number of responses annually per respondent | Average time/response (hours) | Total annual burden hours
NIHAC—Applications | 10,000 | 1 | 45/60 | 7,500
NIHAC—Reference Letters | 25,000 | 1 | 10/60 | 4,167
NIHAC—UGSP Financial Need Form | 125 | 1 | 10/60 | 21
GPP—Interview Experience Survey | 90 | 1 | 10/60 | 15
UGSP—Interview Experience Survey | 30 | 1 | 10/60 | 5
UGSP—Contract | 25 | 1 | 10/60 | 4
UGSP—Evaluation of Scholar PayBack Period | 40 | 1 | 10/60 | 7
UGSP—Deferment Form | 50 | 1 | 10/60 | 8
GPP—Awards Certificate | 75 | 1 | 3/60 | 4
Trainee—Climate Survey | 500 | 1 | 20/60 | 167
Trainee—Onboarding Survey | 1,575 | 1 | 10/60 | 263
Trainee—Exit Survey | 1,575 | 1 | 10/60 | 263
MyOITE User Accounts (NIH-only) | 3,000 | 1 | 3/60 | 150
Event Registrations | 5,000 | 1 | 3/60 | 250
Totals | 47,085 | 47,085 | n/a | 12,824

Dated: February 5, 2024.
Lawrence A. Tabak,
Principal Deputy Director, National Institutes of Health.

[FR Doc. 2024-03035 Filed 2-13-24; 8:45 am]

BILLING CODE 4140-01-P